DEPARTMENT OF COMMERCE

Foreign-Trade Zones Board

[Docket 10-2004]

Proposed Foreign-Trade Zone—Southaven (DeSoto County), Mississippi; Extension of Comment Period

The comment period for the application to establish a general-purpose foreign-trade zone in Southaven (DeSoto County), Mississippi, submitted by the Northern Mississippi FTZ, Inc., (57 FR 13811, 3/24/04), is being extended to June 23, 2004, to allow interested parties additional time in which to comment. Rebuttal comments may be submitted until June 30, 2004. Submissions (original and 3 copies) shall be addressed to the Board's Executive Secretary at one of the following addresses:

1. Submissions via Express/Package Delivery Services: Foreign-Trade Zones Board, U.S. Department of Commerce, Franklin Court Building-Suite 4100W, 1099 14th St., Washington, DC 20005; or

2. Submissions via U.S. Postal Service: Foreign-Trade Zones Board, U.S. Department of Commerce, FCB-Suite 4100W, 1401 Constitution Ave., NW., Washington, DC 20230.

Dated: May 21, 2004.
Dennis Puccinelli,
Executive Secretary.

[FR Doc. 04-12288 Filed 5-28-04; 8:45 am]

BILLING CODE 3510-DS-P